Title 3—

The President

Executive Order 14259 of April 8, 2025

Amendment to Reciprocal Tariffs and Updated Duties as Applied to Low-Value Imports From the People's Republic of China

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. In Executive Order 14257 of April 2, 2025 (Regulating Imports with a Reciprocal Tariff to Rectify Trade Practices that Contribute to Large and Persistent Annual United States Goods Trade Deficits), I declared a national emergency arising from conditions reflected in large and persistent annual U.S. goods trade deficits, and imposed additional ad valorem duties that I deemed necessary and appropriate to deal with that unusual and extraordinary threat, which has its source in whole or substantial part outside the United States, to the national security and economy of the United States. Section 4(b) of Executive Order 14257 provided that “[s]hould any trading partner retaliate against the United States in response to this action through import duties on U.S. exports or other measures, I may further modify the [Harmonized Tariff Schedule of the United States] to increase or expand in scope the duties imposed under this order to ensure the efficacy of this action.” I further declared pursuant to Executive Order 14256 of April 2, 2025 (Further Amendment to Duties Addressing the Synthetic Opioid Supply Chain in the People's Republic of China as Applied to Low-Value Imports) that duty-free de minimis treatment on articles described in section 2(a) of Executive Order 14195 is no longer available effective at 12:01 a.m. eastern daylight time on May 2, 2025.

On April 4, 2025, the State Council Tariff Commission of the People's Republic of China (PRC) announced that in response to Executive Order 14257, effective at 12:01 a.m. eastern daylight time on April 10, 2025, a 34 percent tariff would be imposed on all goods imported into the PRC originating from the United States. Pursuant to section 4(b) of Executive Order 14257, I am ordering modification of the Harmonized Tariff Schedule of the United States (HTSUS) and taking other actions to increase the duties imposed on the PRC in response to this retaliation. In my judgment, this modification is necessary and appropriate to effectively address the threat to the national security and economy of the United States.

Sec. 2. Tariff Increase. In recognition of the fact that the PRC has announced that it will retaliate against the United States in response to Executive Order 14257, the HTSUS shall be modified as follows. Effective with respect to goods entered for consumption, or withdrawn from warehouse for consumption, on or after 12:01 a.m. eastern daylight time on April 9, 2025:

(a) heading 9903.01.63 of the HTSUS shall be amended by deleting “34%” each place that it appears and by inserting “84%” in lieu thereof; and

(b) subdivision (v)(xiii)(10) of U.S. note 2 to subchapter III of chapter 99 of the HTSUS shall be amended by deleting “34%”, and inserting “84%” in lieu thereof.

Sec. 3. De Minimis Tariff Increase. To ensure that the imposition of tariffs pursuant to section 2 of this order is not circumvented and that the purpose of Executive Order 14257 and this action is not undermined, I also deem it necessary and appropriate to:

(a) increase the ad valorem rate of duty set forth in section 2(c)(i) of Executive Order 14256 from 30 percent to 90 percent;

(b) increase the per postal item containing goods duty in section 2(c)(ii) of Executive Order 14256 that is in effect on or after 12:01 a.m. eastern daylight time on May 2, 2025, and before 12:01 a.m. eastern daylight time on June 1, 2025, from 25 dollars to 75 dollars; and

(c) increase the per postal item containing goods duty in section 2(c)(ii) of Executive Order 14256 that is in effect on or after 12:01 a.m. eastern daylight time on June 1, 2025, from 50 dollars to 150 dollars.

Sec. 4. Implementation. The Secretary of Commerce, the Secretary of Homeland Security, and the United States Trade Representative, as applicable, in consultation with the Secretary of State, the Secretary of the Treasury, the Assistant to the President for Economic Policy, the Senior Counselor for Trade and Manufacturing, the Assistant to the President for National Security Affairs, and the Chair of the International Trade Commission, are directed to take all necessary actions to implement and effectuate this order, consistent with applicable law, including through temporary suspension or amendment of regulations or notices in the Federal Register and adopting rules and regulations, and are authorized to take such actions, and to employ all powers granted to the President by IEEPA, as may be necessary to implement this order. Each executive department and agency shall take all appropriate measures within its authority to implement this order.

Sec. 5. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 8, 2025.

[FR Doc. 2025-06378

Filed 4-11-25; 8:45 am]

Billing code 3395-F4-P